DEPARTMENT OF STATE

[Public Notice 4587]

Notice of Meeting; Shipping Coordinating Committee

The Shipping Coordinating Committee (SHC) will conduct an open meeting at 9:30 a.m. on Tuesday, February 3, 2004, in Room 6319 of the United States Coast Guard Headquarters Building, 2100 2nd Street SW., Washington, DC 20593-0001. The primary purpose of the meeting is to prepare for the 47th session of the Sub-Committee on Ship Design and Equipment (DE) to be held at the International Maritime Organization (IMO) Headquarters in London, England from February 25th to March 5th, 2004.

The primary matters to be considered include:

—Amendments to resolution A.744(18) regarding longitudinal strength of tankers;

—Large passenger ship safety;

—Measures to prevent accidents with lifeboats;

—Protection of fuel tanks;

—Review of fast rescue boat and means of rescue requirements;

—Anchoring, mooring and towing equipment;

—Performance testing and approval standards for SOLAS personal life-saving appliances;

—Review of the 2000 HSC Code and amendments to the DSC Code and the 1994 HSC Code;

—Fitting of water ingress alarms in new, single hold cargo ships;

—Consideration of IACS unified interpretations;

—Alternate hold loading ban for bulk carriers;

—Double-side-skin construction of bulk carriers;

—Application of structural standards in SOLAS chapter XII;

—Improved loading/stability information for bulk carriers;

—Performance standards for protective coatings;

—Free-fall lifeboats with float-free capability;

—Guidelines on on-board exhaust gas cleaning systems;

—Revision of the Explanatory notes to the Standards for ship maneuverability.

Hard copies of documents associated with the 47th session of DE will be available at this meeting. To request further copies of documents please write to the address provided below.

Members of the public may attend this meeting up to the seating capacity of the room. Interested persons may seek information by writing to Mr. Wayne Lundy, Commandant (G-MSE-3), U.S. Coast Guard Headquarters, 2100 Second Street SW., Room 1300, Washington, DC 20593-0001 or by calling (202) 267-0024.

Dated: January 13, 2004.
Steve Poulin,
Executive Secretary, Shipping Coordinating Committee, Department of State.

[FR Doc. 04-1355 Filed 1-21-04; 8:45 am]

BILLING CODE 4710-09-P